DEPARTMENT OF HEALTH AND HUMAN SERVICES

Food and Drug Administration

[FDA 225-04-8000]

Memorandum of Understanding Between the Food and Drug Administration and the Food and Drug Administration Alumni Association

AGENCY: Food and Drug Administration, HHS.

ACTION: Notice.

SUMMARY: The Food and Drug Administration (FDA) is providing notice of a memorandum of understanding (MOU) between FDA and the Food and Drug Administration Alumni Association, Inc. The purpose of this MOU is to establish a greater collaboration between FDA and the Food and Drug Administration Alumni Association, Inc., regarding FDAs 2006 Centennial Observance.

DATES: The agreement became effective July 28, 2004.

FOR FURTHER INFORMATION CONTACT: Mary Hitch, Senior Advisor, Office of External Relations (HF-10), 5600 Fishers Lane, Rockville, MD 20857, 301-827-4406.

SUPPLEMENTARY INFORMATION: In accordance with 21 CFR 20.108(c), which states that all written agreements and MOUs between FDA and others shall be published in the Federal Register, the agency is publishing notice of this MOU.

Dated: September 8, 2005.
Jeffrey Shuren,
Assistant Commissioner for Policy.

BILLING CODE 4160-01-S

[FR Doc. 05-19016 Filed 9-22-05; 8:45 am]

BILLING CODE 4160-01-C